DEPARTMENT OF DEFENSE

Department of the Army

Notice of Availability for Exclusive, Non-Exclusive, or Partially-Exclusive Licensing of an Invention Concerning Method of Diagnosing of Exposure to Toxic Agents by Measuring Distinct Pattern in the Levels of Expression of Specific Genes

AGENCY: Department of the Army, DoD.

ACTION: Notice.

SUMMARY: Announcement is made of the availability for licensing of the invention set forth in U.S. Patent 6,316,197, entitled “Method of Diagnosing of Exposure to Toxic Agents by Measuring Distinct Pattern in the Levels of Expression of Specific Genes,” issued November 13, 2001. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to a method of diagnosing exposure to a toxic agent by determining a difference in the detected amount of protein/gene expression between exposed and unexposed samples.

Brenda S. Bowen,
Army Federal Register Liaison Officer.

[FR Doc. 2011-18524 Filed 7-21-11; 8:45 am]

BILLING CODE 3710-08-P